DEPARTMENT OF ENERGY

Federal Energy Regulatory Commission

[Docket Nos. CP02-379-000 and CP02-380-000]

Southern LNG, Inc.; Notice of Intent to Prepare an Environmental Assessment for the Proposed Elba Island Expansion Project, Request for Comments on Environmental Issues, and Notice of Public Scoping Meeting

September 12, 2002.

The staff of the Federal Energy Regulatory Commission (FERC or Commission) will prepare an environmental assessment (EA) that will discuss the environmental impacts of the Elba Island Expansion Project involving construction and operation of facilities by Southern LNG, Inc. (Southern LNG) on Elba Island in Chatham County, Georgia.¹ The project involves expanding the storage and sendout capacity of Southern LNG's existing liquefied natural gas (LNG) marine import terminal (Elba Island Terminal). This EA will be used by the Commission in its decision-making process to determine whether the project is in the public convenience and necessity.

¹ Southern LNG's application was filed with the Commission under Section 7 of the Natural Gas Act and Part 157 of the Commission's regulations.

Summary of the Proposed Project

Southern LNG proposes in Docket No. CP02-380-000: (1) To expand the LNG storage capacity; (2) to increase the sustainable daily sendout capability to 806 million standard cubic feet per day (MMscfd) and its peaking capacity to 1,215 MMscfd; and (3) to accommodate two LNG tankers at one time. Southern LNG seeks authorization to construct and operate the following new facilities at its existing Elba Island Terminal:

• LNG ship unloading slip with two berths, each with unloading arms. The South Dock with three liquid arms and one vapor arm and the North Dock with two liquid and one vapor arm, mooring and breasting dolphins, fendering systems, and support trestles;

• relocation of three existing unloading arms from existing dock to the new North Dock for use as two liquid arms and one vapor arm;

• 1,000,000-barrel (160,000 cubic meters or 3.5 billion cubic feet of gas equivalent) double-wall LNG storage tank with spill containment dike;

• two 360 MMscfd first-stage (booster) LNG pumps;

• 20 MMscfd recondenser;

• three 180 MMscfd second-stage LNG pumps;

• three 180 MMscfd submerged combustion vaporizers;

• desuperheaters;

• motor control center;

• two dock control buildings;

• compressor shelter; and

• associated hazard detection, control, and prevention systems, cryogenic piping and insulation, electrical and instrumentation systems, and a road from the existing site to the new slip.

In addition, in Docket No. CP02-379-000, Southern LNG requests Section 3 authorization under Subpart B of Part 153 of the Commission's regulations for siting of natural gas import facilities.

Land Requirements for Construction

The Elba Island Terminal occupies about 140 fenced acres on the 840-acre Elba Island in an estuary of the Savannah River. The proposed facilities would affect about 87.7 acres of land of which about 37.3 acres would be permanently changed with new structures or open water. Construction of the LNG tank, vaporizers, pumps, and associated facilities (including temporary construction laydown, office trailers, and worker parking) would affect about 35.5 acres of previously disturbed land within the existing fenced terminal site. The majority of the land impacted would be associated with the proposed marine slip. Construction of the slip would affect about 52.2 acres of land above mean low water of which about 35.3 acres would be permanently changed (31.2 acres would lie below mean low water). All construction would occur on Elba Island which Southern LNG owns.

The EA Process

The National Environmental Policy Act (NEPA) requires the Commission to take into account the environmental impacts that could result from an action whenever it considers the issuance of a Certificate of Public Convenience and Necessity. NEPA also requires us ² to discover and address concerns the public may have about proposals. This process is referred to as “scoping”. The main goal of the scoping process is to focus the analysis in the EA on the important environmental issues. By this Notice of Intent, the Commission requests public comments on the scope of the issues it will address in the EA. All comments received are considered during the preparation of the EA. State and local government representatives are encouraged to notify their constituents of this proposed action and encourage them to comment on their areas of concern.

² ”We”, “us”, and “our” refer to the environmental staff of the Office of Energy Projects (OEP).

The EA will discuss impacts that could occur as a result of the construction and operation of the proposed project under these general headings:

• geology and soils

• water resources, fisheries, and wetlands

• vegetation and wildlife

• air quality and noise

• land use

• cultural resources

• endangered and threatened species

• public safety

We will also evaluate possible alternatives to the proposed project or portions of the project, and make recommendations on how to lessen or avoid impacts on the various resource areas.

Our independent analysis of the issues will be presented in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section below.

Currently Identified Environmental Issues

We have already identified several issues that we think deserve attention based on a preliminary review of the proposed facilities and the environmental information provided by Southern LNG. This preliminary list of issues may be changed based on your comments and our analysis.

• Approximately 118 LNG tankers per year transiting the Savannah River to the terminal by the year 2006.

• Environmental and technical issues associated with the construction and operation of a LNG ship unloading facility, a 1,000,000 barrel LNG storage tank, and the expansion of the terminal's sendout capacity.

Public Participation

You can make a difference by providing us with your specific comments or concerns about the project. By becoming a commentor, your concerns will be addressed in the EA and considered by the Commission. You should focus on the potential environmental effects of the proposal, alternatives to the proposal, and measures to avoid or lessen environmental impact. The more specific your comments, the more useful they will be. Please carefully follow these instructions to ensure that your comments are received in time and properly recorded:

• Send an original and two copies of your letter to: Magalie R. Salas, Secretary, Federal Energy Regulatory Commission, 888 First St., NE, Room 1A, Washington, DC 20426.

• Label one copy of the comments for the attention of the Gas 1, PJ-11.1.

• Reference Docket Nos. CP02-379-000 and CP02-380-000.

• Mail your comments so that they will be received in Washington, DC on or before October 15, 2002.

Please note that we are continuing to experience delays in mail deliveries from the U.S. Postal Service. As a result, we will include all comments that we receive within a reasonable time frame in our environmental analysis of this project. However, the Commission strongly encourages electronic filing of any comments or interventions or protests to this proceeding. See 18 CFR 385.2001(a)(1)(iii) and the instructions on the Commission's web site at http://www.ferc.gov under the “e-Filing” link and the link to the User's Guide. Before you can file comments you will need to create a free account which can be created by clicking on “Login to File” and then “New User Account.”

Public Scoping Meeting

In addition to or in lieu of sending written comments, we invite you to attend a public scoping meeting that we will conduct in the project area. The location and time for this meeting is listed below:

Tuesday, October 1, 2002, 7:00 pm.

Radisson Hotel Historic Savannah, 411 West Bay Street, Savannah, Georgia, (912) 790-7000.

The public scoping meeting is designed to provide state and local agencies, interested groups, affected landowners, and the general public with more detailed information and another opportunity to offer your comments on the proposed project. Interested groups and individuals are encouraged to attend the meeting and to present comments on the environmental issues they believe should be addressed in the EA. A transcript of the meeting will be made so that your comments will be accurately recorded.

Becoming an Intervenor

In addition to involvement in the EA scoping process, you may want to become an official party to the proceeding known as an “intervenor”. Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 1).³ Only intervenors have the right to seek rehearing of the Commission's decision.

³ Interventions may also be filed electronically via the Internet in lieu of paper. See the previous discussion on filing comments electronically. The appendices referenced in this notice are not being printed in the Federal Register. Copies are available on the Commission's website at the “FERRIS” link or from the Commission's Public Reference and Files Maintenance Branch, 888 First Street, NE, Washington, DC 20426, or call (202) 502-8371. For instructions on connecting to FERRIS refer to the last page of this notice. Copies of the appendices were sent to all those receiving this notice in the mail.

Affected landowners and parties with environmental concerns may be granted intervenor status upon showing good cause by stating that they have a clear and direct interest in this proceeding which would not be adequately represented by any other parties. You do not need intervenor status to have your environmental comments considered.

Environmental Mailing List

This notice is being sent to individuals, organizations, and government entities interested in and/or potentially affected by the proposed project. It is also being sent to all identified potential right-of-way grantors. By this notice we are also asking governmental agencies, especially those in appendix 2, to express their interest in becoming cooperating agencies for the preparation of the EA.

Additional Information

Additional information about the project is available from the Commission's Office of External Affairs, at 1-866-208-FERC or on the FERC Internet website (www.ferc.gov) using the FERRIS link. Click on the FERRIS link, enter the docket number excluding the last three digits in the Docket Number field. Be sure you have selected an appropriate date range. For assistance with FERRIS, the FERRIS helpline can be reached at (202) 502-8222, TTY (202) 502-8659. The FERRIS link on the FERC Internet Web site also provides access to the texts of formal documents issued by the Commission, such as orders, notices, and rulemakings.

Magalie R. Salas,
Secretary.

[FR Doc. 02-23656 Filed 9-17-02; 8:45 am]

BILLING CODE 6717-01-P